DEPARTMENT OF HOMELAND SECURITY

[Docket No. USCIS-2019-0019]

Privacy Act of 1974; System of Records

AGENCY: U.S. Citizenship and Immigration Services, Department of Homeland Security.

ACTION: Rescindment of a System of Records notice.

SUMMARY: In accordance with the Privacy Act of 1974, the Department of Homeland Security (DHS) is giving notice that it is rescinding the following Privacy Act system of records notices, “Department of Homeland Security (DHS)/U.S. Citizenship and Immigration Services (USCIS)-002 Background Check Service System of Records” and “DHS/USCIS-003 Biometric Storage System” and has consolidated both system of record notices into “DHS/USCIS-018 Immigration Biometric and Background Check Records System of Records,” (July 31, 2018, 83 FR 36950).

DATES: These changes will take effect upon publication.

ADDRESSES: You may submit comments, identified by docket number USCIS-2019-0019 by one of the following methods:

• Federal e-Rulemaking Portal: http://www.regulations.gov. Follow the instructions for submitting comments.

• Fax: 202-343-4010.

• Mail: Jonathan R. Cantor, Acting Chief Privacy Officer, Privacy Office, Department of Homeland Security, Washington, DC 20528-0655.

Instructions: All submissions received must include the agency name and docket number USCIS-2019-2019. All comments received will be posted without change to http://www.regulations.gov, including any personal information provided.

Docket: For access to the docket to read background documents or comments received, go to http://www.regulations.gov.

FOR FURTHER INFORMATION CONTACT: For general questions, please contact: Donald K. Hawkins, USCIS.PrivacyCompliance@uscis.dhs.gov, (202) 272-8030, Privacy Officer, U.S. Citizenship and Immigration Services, 20 Massachusetts Avenue NW, Washington, DC 20529. For privacy questions, please contact: Jonathan R. Cantor, Privacy@hq.dhs.gov, (202) 343-1717, Acting Chief Privacy Officer, Privacy Office, Department of Homeland Security, Washington, DC 20528-0655.

SUPPLEMENTARY INFORMATION: Pursuant to the provisions of the Privacy Act of 1974, 5 U.S.C. 552a, and as part of its ongoing integration and management efforts, the Department of Homeland Security (DHS) is rescinding the system of records notices, “DHS/U.S. Citizenship and Immigration Services (USCIS)-002 Background Check Service System of Records,” (June 5, 2007, 72 FR 31082) and “DHS/USCIS-003 Biometric Storage System,” (April 6, 2007, 72 FR 17172), and has consolidated both system of records notices into “DHS/USCIS-018 Immigration Biometric and Background Check Records System of Records,” (July 31, 2018, 83 FR 36950).

USCIS will continue to collect and maintain biometric and associated biographic information to assist USCIS with determining an individual's eligibility for an immigration request. USCIS captures biographic and biometric data from applicants, petitioners, sponsors, beneficiaries, or other individuals making immigration requests, to facilitate three key operational functions: (1) Enroll, verify, and manage an individual's identity; (2) conduct criminal and national security background checks; and (3) produce benefit cards/documents as a proof of benefit. USCIS also uses the information to support data sharing initiatives between DHS components, other U.S. Government agencies and foreign partners in order to prevent terrorism, including terrorist travel; prevent serious crime and other threats to national security and public safety; and assist in the administration and enforcement of immigration laws.

DHS/USCIS-002 covered the collection, use, maintenance, and dissemination of information derived from background check requests and results of individuals seeking USCIS benefits, including individuals over the age of 18 residing in a prospective adoptive parent's household. DHS/USCIS-003 covered the collection, use, maintenance, and dissemination of all biometric and associated biographic data used by USCIS to conduct background checks, facilitate card production, and accurately identify individuals who submit an immigration request. USCIS uses these records to assist it with making eligibility determinations, which will result in the approval or denial of an immigration request.

As such, DHS will continue to collect and maintain biometric and associated biographic information to assist USCIS with determining an individual's eligibility for an immigration request, and will rely upon DHS/USCIS-018.

Rescinding DHS/USCIS-002 and DHS/USCIS-003 and consolidating into the new system of records notice will have no adverse impacts on individuals, but will provide transparency and promote the overall streamlining and management of DHS Privacy Act record systems.

SYSTEM NAME AND NUMBER:

Department of Homeland Security/U.S. Citizenship and Immigration Services-002 Background Check Service System of Records and Department of Homeland Security/U.S. Citizenship and Immigration Services-003 Biometric Storage System.

HISTORY:

Department of Homeland Security/U.S. Citizenship and Immigration Services-002 Background Check Service System of Records, (June 5, 2007, 72 FR 31082), and Department of Homeland Security/U.S. Citizenship and Immigration Services-003 Biometric Storage System, (April 6, 2007, 72 FR 17172).

Jonathan R. Cantor,
Acting Chief Privacy Officer, Department of Homeland Security.

[FR Doc. 2020-04977 Filed 3-10-20; 8:45 am]

BILLING CODE 9111-17-P